NUCLEAR REGULATORY COMMISSION

[Docket No. NRC-2014-0148]

Agency Information Collection Activities: Proposed Collection; Comment Request

AGENCY: Nuclear Regulatory Commission.

ACTION: Notice of pending NRC action to submit an information collection request to the Office of Management and Budget (OMB) and solicitation of public comment.

SUMMARY: The U.S. Nuclear Regulatory Commission (NRC) invites public comment about our intention to request the OMB's approval for renewal of an existing information collection that is summarized below. We are required to publish this notice in the Federal Register under the provisions of the Paperwork Reduction Act of 1995 (44 U.S.C. Chapter 35).

Information pertaining to the requirement to be submitted:

1. The title of the information collection: 10 CFR Part 100 “Reactor Site Criteria.”

2. Current OMB approval number: 3150-0093.

3. How often the collection is required: As necessary in order for the NRC to assess the adequacy of proposed seismic design bases and the design bases for other site hazards for nuclear power and test reactors constructed and licensed in accordance with Parts 50 and 52 of Title 10 of the Code of Federal Regulations (10 CFR) and the Atomic Energy Act of 1954, as amended.

4. Who is required or asked to report: Applicants and licensees for nuclear power and test reactors.

5. The number of annual respondents: 2.3 (7 respondents over a 3-year period).

6. The number of hours needed annually to complete the requirement or request: 167,900 hours (73,000 per application × 2.3 applications).

7. Abstract: Part 100, Reactor Site Criteria, establishes approval requirements for proposed sites for the purpose of constructing and operating stationary power and testing reactors pursuant to the provisions of 10 CFR parts 50 or 52. These reactors are required to be sited, designed, constructed, and maintained to withstand geologic hazards, such as faulting, seismic hazards, and the maximum credible earthquake, to protect the health and safety of the public and the environment. Non-seismic siting criteria must also be evaluated. Seismic siting criteria include such factors as population density, the proximity of man-related hazards, and site atmospheric dispersion characteristics. The NRC uses the information required by 10 CFR part 100 to evaluate whether natural phenomena and potential man-made hazards will be appropriately accounted for in the design of nuclear power and test reactors.

Submit, by September 2, 2014, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

The public may examine and have copied for a fee publicly-available documents, including the draft supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments submitted in writing or in electronic form will be made available for public inspection. Because your comments will not be edited to remove any identifying or contact information, the NRC cautions you against including any information in your submission that you do not want to be publicly disclosed. Comments submitted should reference Docket No. NRC-2014-0148. You may submit your comments by any of the following methods: Electronic comments go to http://www.regulations.gov and search for Docket No. NRC-2014-0148. Mail comments to the Acting NRC Clearance Officer, Brenda Miles (T-5 F53), U.S. Nuclear Regulatory Commission, Washington, DC 20555-0001.

Questions about the information collection requirements may be directed to the Acting NRC Clearance Officer, Brenda Miles (T-5 F53), U.S. Nuclear Regulatory Commission, Washington, DC 20555-0001; telephone: 301-415-7884, or by email to INFOCOLLECTS.Resource@NRC.GOV.

Dated at Rockville, Maryland, this 26th day of June, 2014.
For the Nuclear Regulatory Commission.
Brenda Miles,
Acting NRC Clearance Officer, Office of Information Services.

[FR Doc. 2014-15448 Filed 7-1-14; 8:45 am]

BILLING CODE 7590-01-P